DEPARTMENT OF THE INTERIOR

Bureau of Indian Affairs

Privacy Act of 1974, as Amended; Amendment of an Existing System of Records

AGENCY: Bureau of Indian Affairs, Interior.

ACTION: Proposed amendment of an existing system of records.

SUMMARY: Under the Privacy Act of 1974, as amended (5 U.S.C. 552a), the Bureau of Indian Affairs (BIA) is issuing public notice of our intent to change an existing Privacy Act system of records notice entitled Interior BIA-25 “Integrated Records Management System (IRMS),” published at 45 FR 45381 (July 3, 1980). BIA proposes to: (1) Update the information on the location of the records; (2) identify new information that will be included in the system of records; (3) clearly state the current routine uses of the records by organizations and individuals outside of the Department of the Interior (DOI); and (4) expand the routine uses of such information to include disclosures to Federal, state, or local agencies regarding the reporting of an investigation of an employee. BIA is accomplishing these changes in part by updating its system of records through conversion to the new application, Trust Asset and Accounting Management System (TAAMS), which has replaced the Land Records Information System (LRIS) and will replace the Integrated Records Management System (IRMS).

DATES: The proposed new system of records will become effective without further notice on April 9, 2007, unless comments received result in a contrary determination. Under 5 U.S.C. 552a(e)(11), the public is provided a 30-day period in which to comment on the agency's intended use of the information in the system of records. The Office of Management and Budget (OMB), in its Circular A-130, requires an additional 10-day period in which the OMB may comment (for a total of 40 days in which to make these comments). BIA will publish a notice if changes are made based on review of comments received.

ADDRESSES: Any persons interested in commenting on this proposed amendment may do so by submitting comments in writing to the Deputy Director, Office of Trust Services, Bureau of Indian Affairs, 1849 C Street, NW., MS 4513—MIB, Washington, DC 20240, or fax to (202) 208-2549.

FOR FURTHER INFORMATION CONTACT: For information regarding “Integrated Records Management System (IRMS), BIA-25,” contact Arch Wells, Deputy Director, Office of Trust Services, Bureau of Indian Affairs, 1849 C Street, NW., MS 4513—MIB, Washington, DC 20240 at (202) 208-5831.

SUPPLEMENTARY INFORMATION: This notice is published pursuant to the Privacy Act of 1974 (5 U.S.C. 552a(e)(4)) and is in exercise of authority delegated by the Secretary of the Interior to the Principal Deputy Assistant Secretary—Indian Affairs in 209 DM 8.1. This notice amends the Privacy Act System of Records entitled “BIA-25: Integrated Records Management System (IRMS).” The purpose of the amendment is to update the information to reflect the modernization of the title and trust systems. IRMS supports the land resource management function and contains information on Indians, leases (e.g., pasture, range, timber, mineral, and mining leases), land ownership, oil and gas royalties, and trust fund accounts. Eventually, this system will be replaced by the TAAMS or another successor system. Until the successor system is fully implemented, the IRMS and the Royalty Distribution and Reporting System (RDRS) will be the official automated systems for income allocations, and will continue to interface with the Trust Fund Accounting System (TFAS). TAAMS, IRMS, and RDRS will include:

(a) A legal land description, chain-of-title history, current ownership, including title and beneficial ownership, and resource management classification for all land held in trust or restricted status by the Federal Government for the benefit of Indian tribes and individual Indians;

(b) Any encumbrances against the title to land;

(c) The name, address, BIA identification number (assigned by the BIA in TAAMS), and Social Security (Federal tax identification) number of each Indian land owner;

(d) The name, address, and Social Security (Federal tax identification) number of each person who has a permit, lease, contract, right-of-way or other legal instrument approved by the Secretary of the Interior that allows such person to use the trust or restricted land, or to extract renewable or non-renewable resources from such land;

(e) The name, address, and Federal taxpayer identification number of any company that has a permit, lease, contract, right-of-way or other legal instrument approved by the Secretary of the Interior that allows such company to use the trust or restricted land, or to extract renewable or non-renewable resources from such land;

(f) The term of the permit, lease, contract, right-of-way or other legal instrument; and

(g) The trust income collected and distributed for such permit, lease, contract, right-of-way or other legal instrument.

Changes to the existing system of records, Integrated Resource Management System—Interior, BIA-25 (July 3, 1980, 45 FR 45381) are summarized here:

* * * * *

System location: Delete “Division of Systems Operation, Bureau of Indian Affairs, 500 Gold Ave., SW., Albuquerque, New Mexico 87103” and replace with “Office of Information Operations, Bureau of Indian Affairs, 625 Herndon Parkway, Herndon, VA 20170” to reflect new location. Add Indian tribal governments that administer realty programs under Self-Determination or Self-Governance awards as a location.

Categories of individuals covered by the system: Add references to Indian lands held in restricted status; delete reference to holders of assigned interests.

Categories of records in the system: Delete reference to dower and life estate interests. Add current income allocation interests.

* * * * *

Routine uses of records maintained in the system, including categories of users and the purposes of such uses:

Add that disclosures may be made to other Federal, state, or local agencies regarding the reporting of an investigation of an employee.

Disclosure to consumer reporting agencies: Add a section describing when records will be disclosed to consumer reporting agencies.

Policies and practices for storing, retrieving, accessing, retaining, and disposing of records in the system:

* * * * *

Safeguards: Add specific description of safeguards employed for paper and electronic records.

* * * * *

Retention and Disposal: Delete reference to information being erased as new information is added.

System manager(s) and address: Update identification of system manager and contact information.

Notification procedure: Provide more explicit directions on how to address a request for information on whether the system contains information about you to ensure the proper office receives the request.

Record access procedure: Provide more explicit directions on how to address a request for copies of records in the system to ensure the proper office receives the request.

Contesting record procedure: Provide more explicit directions on how to address a request for corrections or the removal of any specific record contained in the system to ensure the proper office receives the request.

Record source categories: Add more detailed description of record source categories.

* * * * *

A copy of the notice, with changes incorporated, is attached.

Dated: February 7, 2007.
Michael D. Olsen,
Principal Deputy Assistant Secretary—Indian Affairs.

INTERIOR/BIA-25

System name:

Integrated Records Management System.

System classification:

None.

System location:

(1) Office of Information Operations, Bureau of Indian Affairs, 625 Herndon Parkway, Herndon, VA 20170;

(2) Central, regional, agency and field offices, BIA schools or contractors providing time-share services to BIA;

(3) Those Indian tribal governments that administer realty programs under Self-Determination or Self-Governance awards (for a listing of specific locations, contact the Systems Manager).

Categories of individuals covered by the system:

Individual Indian and Indian tribal entities who are owners of land held in trust or restricted status by the Federal Government, individuals or groups that are potential or actual lessees of that property, and individual Indians who have trust fund accounts.

Categories of records in the system:

Land descriptions, current ownership, current income allocation interests, information on all types of leases or other land uses including grazing, farming, minerals mining, timber and business. Information on individuals including name, address, aliases, sex, date of birth, tribal membership and blood quantums. General ledgers showing deposits and withdrawals from individual Indian money (IIM) accounts.

Authority for maintenance of the system:

25 U.S.C. 151, 25 U.S.C. 392, 25 U.S.C. 415, and 25 U.S.C. 163.

Routine uses of records maintained in the system, including categories of users and the purposes of such uses:

Integrated Records Management System is a legacy system consisting of eight applications.

• People—The “People” application maintains information on individuals and tribes. This information is used for providing information such as an address for use with other applications.

• Per Capita—The “Per Capita” application provides the means to calculate and generate payments to individuals. The payments may be the result of a judgment or tribal per capita distributions.

• Lease—The “Lease” application manages the leasing function for Indian land.

• Lease Distribution—The “Lease Distribution” application distributes the income from a lease to the owners of the land.

• Range—The “Range” application provides additional functionality to manage range leases and permits.

• IIM—The “Individual Indian Monies” application provides information on the accounts maintained for individuals and shares information needed by other IRMS applications. It is no longer used as the system of record for individuals. That function is performed by TFAS, which updates the IIM application to provide the IRMS applications with up-to-date information.

• Owner—The “Owner” application manages the ownership of Indian land.

• RDRS—The “Royalty Distribution and Reporting System” (sometimes referred to as “Oil & Gas”) manages, receives and distributes the income derived from oil & gas leases.

The primary uses of the records are:

(a) Repository of IIM account information for use by other IRMS applications.

(b) Identification of individual Indians and Indian tribal groups with interest in income producing leases or contracts;

(c) Management of leases on Indian trust and restricted lands, and collection and distribution of lease income;

(d) Invoicing of individual owners or lessees for irrigation;

(e) Determination of eligibility of individuals to participate in, or enjoy benefits from, a tribal group; and

(f) Maintenance of lists of approved enrollees used to distribute funds or income, or as a base to gather demographics or income allocation data for planning purposes.

Disclosures of these records outside the Department of the Interior will be limited to:

(1) The tribe, band, pueblo or corporation of which the individual to whom a record pertains is a member or a stockholder.

(2)(a) To any of the following entities or individuals, when the circumstances set forth in (b) are met:

(i) The Department of Justice (DOJ);

(ii) a court, adjudicative or other administrative body;

(iii) a party in litigation before a court or adjudicative or administrative body; or

(iv) any DOI employee acting in his or her individual capacity if DOI or DOJ has agreed to represent that employee or pay for private representation of the employee;

(b) When:

(i) One of the following is a party to the proceeding or has an interest in the proceeding:

(A) DOI or any component of DOI;

(B) Any DOI employee acting in his or her official capacity;

(C) Any DOI employee acting in his or her individual capacity if DOI or DOJ has agreed to represent that employee or pay for private representation of the employee;

(D) The United States, when DOJ determines that DOI is likely to be affected by the proceeding; and

(ii) DOI deems the disclosure to be:

(A) Relevant and necessary to the proceeding; and

(B) Compatible with the purposes for which the records were compiled.

(3) To a congressional office in response to a written inquiry an individual covered by the system has made to the congressional office about him or herself or a family member when the individual is the guardian.

(4) To an official of another Federal agency to provide information needed in the performance of official duties related to reconciling or reconstructing data files, in support of the functions for which the records were collected and maintained.

(5) To representatives of the National Archives and Records Administration to conduct records management inspections under the authority of 44 U.S.C. 2903 and 2904.

(6) The appropriate Federal, state, tribal, or local governmental agency that is responsible for investigating, prosecuting, enforcing or implementing a statute, rule, regulation, order or license, when the Department becomes aware of an indication of a violation or potential violation of the statute, rule, regulation, order or license.

(7) Indian tribes entering into a contract or compacts of real estate or title functions under the Indian Self-Determination and Education Assistance Act, as amended.

Disclosure to consumer reporting agencies:

Disclosures pursuant to 5 U.S.C. 552a(b)(12). Under 5 U.S.C. 552a(b)(12), disclosures may be made to a consumer reporting agency as defined in the Fair Credit Reporting Act (15 U.S.C. 718a(f)), or the Federal Claims Collection Act of 1966, as amended (31 U.S.C. 3701(a)(3).

Policies and practices for storing, retrieving, accessing, retaining, and disposing of records in the system:

Storage:

Manual Records: Letter files, computer readable media, input forms and computer printouts.

Electronic Records: Magnetic (mag) tape and disk files.

Retrievability:

(a) Indexed by name, Bureau identification numbers, family numbers and tract numbers.

(b) Retrieved by manual search or computer inquiry.

Safeguards:

During business hours, paper records are maintained in areas accessible only by authorized personnel in a secured office environment and comply with the minimum DOI safeguard requirements for maintaining Privacy Act system of records under 43 CFR 2.51. Electronic records are accessible via a password from terminals located in attended offices and only personnel with approved access may change the data. Electronic records comply with DOI and National Institute of Standards and Technology cyber security requirements. After business hours, buildings have security guards and/or secured doors, and all entrances are monitored by electronic surveillance equipment. A Privacy Impact Assessment is being completed for IRMS in accordance with the E-Government Act of 2002 and OMB requirements for new and amended information systems.

Retention and disposal:

Permanent records are retrieved and closed or inactive records are transferred to the Federal Records Center in accordance with the following schedules: NARA Job # N1-075-03-1 (approved January 24, 2003) for the IIM application; NARA Job # N1-075-03-04 (approved February 24, 2004) for the people and per capita applications; and NARA Job # N1-075-03-04 for the remaining applications.

System manager(s) and address:

Director, Office of Information Operations, Bureau of Indian Affairs, 625 Herndon Parkway, Herndon, VA 20170.

Notification procedure:

If you wish to determine if the system contains information about you, contact the System Manager at the address above. Provide the following information with your request:

(a) Proof of your identity;

(b) List of all of the names by which you have been known, such as maiden name or alias;

(c) Your Social Security Number;

(d) Mailing address;

(e) Tribe, tribal enrollment or census number;

(f) BIA home agency; and

(g) Time period(s) that records belonging to you may have been created or maintained, to the extent known by you.

The request must be in writing and signed by you. To ensure proper handling of your request, you should include the notation “PRIVACY ACT INQUIRY” at the top of the first page of your letter and on the envelope in which you mail the letter. For additional information refer to 43 CFR 2.60.

Record access procedures:

Persons who would like to obtain a copy of their records contained in the system should contact the System Manager at the address above. Provide the following information with your request:

(a) Proof of your identity;

(b) List of all of the names by which you have been known, such as maiden name or alias;

(c) Your Social Security Number;

(d) Mailing address;

(e) Tribe, tribal enrollment or census number;

(f) BIA home agency; and

(g) Time period(s) that records belonging to you may have been created or maintained, to the extent known by you.

The request must be in writing and signed by you. You should state whether you are seeking all of the records about you that may be maintained by the system, or only a specific portion of them. If you are only seeking a portion of them, you should describe those records you are seeking with sufficient detail to enable an individual familiar with the system to locate them with a reasonable amount of effort. To ensure proper handling of your request, you should include the notation “PRIVACY ACT REQUEST FOR ACCESS” at the top of the first page of your letter and on the envelope in which you mail the letter. For additional information, refer to 43 CFR 2.63.

Contesting record procedures:

To request corrections or the removal of any specific record contained in the system, contact the System Manager at the address above. Provide the following information with your request:

(a) Proof of your identity;

(b) List of all of the names by which you have been known, such as maiden name or alias;

(c) Your Social Security Number;

(d) Mailing address;

(e) Tribe, tribal enrollment or census number;

(f) BIA home agency; and

(g) Time period(s) that records belonging to you may have been created or maintained, to the extent known by you.

The request must be in writing and signed by you. Before you make such a request, you must have requested access to your records and have either inspected them or obtained copies of them as described above. You must also identify which record or portion thereof you are contesting, indicating why you believe that it is not accurate, relevant, timely, or complete, and provide a copy of any documents in your possession that support your claim with your letter. You may also propose specific language to implement the changes sought. To ensure proper handling of your request, you should include the notation “PRIVACY ACT REQUEST FOR AMENDMENT” at the top of the first page of your letter and on the envelope in which you mail the letter. For additional information, refer to 43 CFR 2.71.

Record source categories:

(a) BIA, OST, Minerals Management Service, Bureau of Land Management, Office of Hearings and Appeals, and other appropriate agencies in the Department of the Interior;

(b) Federal, state and local agencies;

(c) Tribal offices if the title or realty function is contracted or compacted under the Indian Self-Determination and Education Assistance Act, Pub. L. 93-638, 86 Stat. 2203, as amended;

(d) Courts of competent jurisdiction, including tribal courts.

Exemptions claimed for the system:

None.

[FR Doc. E7-3369 Filed 2-26-07; 8:45 am]

BILLING CODE 4310-W7-P